DEPARTMENT OF LABOR

Employment and Training Administration

[TA-W-59,316]

Sargent Art, Hazleton, PA; Notice of Termination of Investigation

Pursuant to section 221 of the Trade Act of 1974, as amended, an investigation was initiated on May 2, 2006 in response to a worker petition filed by a company official on behalf of workers of Sargent Art, Hazleton, Pennsylvania.

The petitioner has requested that the petition be withdrawn. Consequently, the investigation has been terminated.

Signed at Washington, DC, this 18th day of May 2006.
Linda G. Poole,
Certifying Officer, Division of Trade Adjustment Assistance.

[FR Doc. E6-8947 Filed 6-7-06; 8:45 am]

BILLING CODE 4510-30-P